DEPARTMENT OF THE TREASURY

Internal Revenue Service

26 CFR Part 1

[REG-139483-13]

RIN 1545-BL87

Treatment of Certain Transfers of Property to Foreign Corporations; Correction

AGENCY: Internal Revenue Service (IRS), Treasury.

ACTION: Correction to a notice of proposed rulemaking.

SUMMARY: This document contains corrections to a notice of proposed rulemaking (REG-139483-13) that was published in the Federal Register on Wednesday, September 16, 2015 (80 FR 55568). The proposed regulations are relating to certain transfers of property by United States persons to foreign corporations.

DATES: Written or electronic comments and requests for a public hearing for the notice of proposed rulemaking published at 80 FR 55568, September 16, 2015 are still being accepted and must be received by December 15, 2015.

FOR FURTHER INFORMATION CONTACT: Ryan A. Bowmen at (202) 317-6937 (not a toll free number).

SUPPLEMENTARY INFORMATION:

Background

The notice of proposed rulemaking (REG-139483-13) that is the subject of these corrections is under section 367 of the Internal Revenue Code.

Need for Correction

As published, the notice of proposed rulemaking (REG-139483-13) contains errors that may prove to be misleading and are in need of clarification.

Correction of Publication

Accordingly, the notice of proposed rulemaking (REG-139483-13), that was the subject of FR Doc. 2015-23279, is corrected as follows:

1. On page 55571, in the preamble, third column, fourth line from the top of the column, the language “intangible property. The proposed” is corrected to read “intangible property. The specific provisions of the temporary regulations that will be replaced by the proposed regulations will be removed upon finalization. The proposed”.

2. On page 55571, in the preamble, third column, sixth line from the bottom of the column, the language “under proposed § 1.367(a)-2. The” is corrected to read “under proposed § 1.367(a)-2. Accordingly, upon finalization of the proposed regulations, current §§ 1.367(a)-2T, 4T, and 5T will be removed. The”.

§ 1.367(a)-4 [Corrected]

3. On Page 55580, first column, the twenty-sixth line of paragraph (a)(1)(ii), the language “paragraph (b)(3) the term “related” is corrected to read “paragraph (a)(3) the term “related”.

Martin V. Franks,
Chief, Publications and Regulations Branch, Legal Processing Division, Associate Chief Counsel, (Procedure and Administration).

[FR Doc. 2015-28013 Filed 11-3-15; 8:45 am]

BILLING CODE 4830-01-P